FEDERAL EMERGENCY MANAGEMENT AGENCY

44 CFR Part 65

Changes in Flood Elevation Determinations

AGENCY: Federal Emergency Management Agency (FEMA).

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes the final determinations listed below of the final determinations of modified base flood elevations for each community listed. These modified elevations have been published in newspapers of local circulation and ninety (90) days have elapsed since that publication. The Associate Director has resolved any appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective Date of modification | Community No.
Arizona:
Coconino (FEMA Docket No. 7296) | City of Flagstaff | July 8, 1999, July 15, 1999, Arizona Daily Sun | The Honorable Christopher J. Bavasi, Mayor, City of Flagstaff, 211 West Aspen Avenue, Flagstaff, Arizona 86001 | June 4, 1999 | 040020
Pima (FEMA Docket No. 7296) | City of Tucson | June 8, 1999, June 15, 1999, Tucson Citizen | The Honorable George Miller, Mayor, City of Tucson, P.O. Box 27210, Tucson, Arizona 85726 | May 11, 1999 | 040076
Arkansas: Saline (FEMA Docket No. 7296) | Unincorporated Areas | June 17, 1999, June 24, 1999, Benton Courier | The Honorable Lanny Fite, Saline County Judge, 200 North Main, Room 116, Benton, Arkansas 72015 | May 7, 1999 | 050191
California:
Orange (FEMA Docket No. 7296) | City of Irvine | June 8, 1999, June 15, 1999, Orange County Register | The Honorable Christina Shea, Mayor, City of Irvine, P.O. Box 19575, Irvine, California 92623 | Sept. 13, 1999 | 060222
Orange (FEMA Docket No. 7296) | City of Placentia | July 8, 1999, July 15, 1999, Placentia News-Times | The Honorable Constance Underhill, Mayor, City of Placentia, 410 East Chapman Avenue, Placentia, California 92870 | June 9, 1999 | 060229
Sacramento (FEMA Docket No. 7296) | Unincorporated Areas | July 7, 1999, July 14, 1999, Sacramento Bee | The Honorable Illa Collin, Chairperson, Sacramento County, Board of Supervisors, 700 H Street, Room 2450, Sacramento, California 95814 | Oct. 12, 1999 | 060262
San Diego (FEMA Docket No. 7296) | City of San Diego | June 18, 1999, June 25, 1999, San Diego Daily Transcript | The Honorable Susan Golding, Mayor, City of San Diego, 202 C Street, 11th Floor, San Diego, California 92101 | May 25, 1999 | 060295
San Diego (FEMA Docket No. 7296) | Unincorporated Areas | July 15, 1999, July 22, 1999, San Diego Union-Tribune | The Honorable Pam Slater, Chairperson, San Diego County, Board of Supervisors, 1600 Pacific Highway, Room 335, San Diego, California 92101 | June 22, 1999 | 060289
Ventura (FEMA Docket No. 7296) | City of Simi Valley | June 22, 1999, June 29, 1999, Ventura County Star | The Honorable Bill Davis, Mayor, City of Simi Valley, 2929 Tapo Canyon Road, Simi Valley, California 93063-2199 | May 26, 1999 | 060421
Orange (FEMA Docket No. 7296) | City of Tustin | June 8, 1999, June 15, 1999, Orange County Register | The Honorable Thomas Saltarelli, Mayor, City of Tustin, 300 Centennial Way, Tustin, California 92780 | Sept. 13, 1999 | 060235
Colorado: Summit (FEMA Docket No. 7296) | Town of Frisco | June 18, 1999, June 25, 1999, Breckenridge Summit County Journal | The Honorable M.L. Etie, Mayor, Town of Frisco, P.O. Box 4100, Frisco, Colorado 80443 | May 14, 1999 | 080245
Iowa: Story (FEMA Docket No. 7296) | City of Ames | June 23, 1999, June 30, 1999, The Tribune | The Honorable Ted Tedesco, Mayor, City of Ames, 515 Clark Avenue, Ames, Iowa 50010 | Sept. 28, 1999 | 190254
Kansas:
Sedgwick (FEMA Docket No. 7296) | City of Haysville | June 21, 1999, June 28, 1999, Haysville Times | The Honorable Tim Norton, Mayor, City of Haysville, 200 West Grand, Haysville, Kansas 67060 | May 20, 1999 | 200324
Johnson (FEMA Docket No. 7296) | City of Prairie Village | July 9, 1999, July 16, 1999, The Sun | The Honorable Ronald Schaffer, Mayor, City of Prairie Village, 7700 Mission Road, Prairie Village, Kansas 66208 | June 15, 1999 | 200175
Sedgwick (FEMA Docket No. 7296) | Unincorporated Areas | June 30, 1999, July 7, 1999, Wichita Eagle | The Honorable William Hancock, Chairman, Board of Commissioners, Sedgwick County, 525 North Main, Wichita, Kansas 67203 | May 27, 1999 | 200321
Sedgwick (FEMA Docket No. 7296) | Unincorporated Areas | June 21, 1999, June 28, 1999, Wichita Eagle | The Honorable William Hancock, Chairman, Board of Commissioners, Sedgwick County, 525 North Main, Wichita, Kansas 67203 | May 20, 1999 | 200321
Sedgwick (FEMA Docket No. 7296) | City of Wichita | June 22, 1999, June 29, 1999, Wichita Eagle | The Honorable Bob Knight, Mayor, City of Wichita, 455 North Main Street, First Floor, Wichita, Kansas 67202 | May 20, 1999 | 200328
Sedgwick (FEMA Docket No. 7296) | City of Wichita | June 30, 1999, July 7, 1999, Wichita Eagle | The Honorable Bob Knight, Mayor, City of Wichita, 455 North Main Street, First Floor, Wichita, Kansas 67202 | May 27, 1999 | 200328
Missouri: St. Louis (FEMA Docket No. 7296) | City of Maryland | June 15, 1999, June 22, 1999, St. Louis Countian | The Honorable Michael O'Brien, Mayor, City of Maryland Heights, 212 Millwell Drive, Maryland Heights, Missouri 63043 | Sept. 20, 1999 | 290889
North Dakota: Cass (FEMA Docket No. 7296) | City of Fargo | June 22, 1999, June 29, 1999, The Forum | The Honorable Bruce Furness, Mayor, City of Fargo, City Hall, 200 Third Street North, Fargo, North Dakota 58102-4809 | May 21, 1999 | 385364
Oklahoma:
Oklahoma (FEMA Docket No. 7296) | City of Oklahoma City | June 18, 1999, June 25, 1999, Daily Oklahoman | The Honorable Kirk Humphreys, Mayor, City of Oklahoma City, 200 North Walker, Suite 302, Oklahoma City, Oklahoma 73102 | May 27, 1999 | 405378
Tulsa (FEMA Docket No. 7296) | City of Tulsa | June 11, 1999, June 18, 1999, Tulsa World | The Honorable M. Susan Savage, Mayor, City of Tulsa, City Hall, 200 Civic Center, Tulsa, Oklahoma 74103 | Sept. 16, 1999 | 405381
Oregon: Clackamas (FEMA Docket No. 7296) | City of Milwaukie | June 24, 1999, July 1, 1999, The Oregonian | The Honorable Carolyn Tomei, Mayor, City of Milwaukie, 10722 Southeast Main Street, Milwaukie, Oregon 97222 | May 21, 1999 | 410019
South Dakota: Minnehaha (FEMA Docket No. 7296) | Unincorporated Areas | June 18, 1999, June 25, 1999, Argus Leader | The Honorable Robert Kolbe, Chairman, Minnehaha County Commissioners, 415 North Dakota Avenue, Sioux Falls, South Dakota 57104-2465 | May 21, 1999 | 460057
Texas:
Tarrant (FEMA Docket No. 7296) | City of Arlington | July 9, 1999, July 16, 1999, Fort Worth Star-Telegram | The Honorable Elzie Odom, Mayor, City of Arlington, P.O. Box 231, Arlington, Texas 76004-0231 | June 11, 1999 | 485454
Tarrant (FEMA Docket No. 7296) | City of Arlington | June 15, 1999, June 22, 1999, Fort Worth Star-Telegram | The Honorable Elzie Odom, Mayor, City of Arlington, P.O. Box 231, Arlington, Texas 76004-0231 | Sept. 20, 1999 | 485454
Travis (FEMA Docket No. 7296) | City of Austin | June 22, 1999, June 29, 1999, Austin American-Statesman | The Honorable Kirk Watson, Mayor, City of Austin, 124 West Eighth Street, Austin, Texas 78701 | May 27, 1999 | 480624
Williamson (FEMA Docket No. 7296) | City of Cedar Park | July 7, 1999, July 14, 1999, Hill Country News | The Honorable George Denny, Mayor, City of Cedar Park, 600 North Bell Boulevard, Cedar Park, Texas 78613 | Oct. 12, 1999 | 481282
Tarrant (FEMA Docket No. 7296) | City of Colleyville | June 11, 1999, June 18, 1999, Fort Worth Star-Telegram | The Honorable Richard Newton, Mayor, City of Colleyville, P.O. Box 185, Fort Worth, Texas 76034-0185 | May 19, 1999 | 480590
Dallas (FEMA Docket No. 7296) | City of Farmers Branch | July 23, 1999, July 30, 1999, Dallas Morning News | The Honorable Bob Phelps, Mayor, City of Farmers Branch, P.O. Box 819010, Farmers Branch, Texas 75381-9010 | June 23, 1999 | 480174
Tarrant (FEMA Docket No. 7296) | City of Fort Worth | June 15, 1999, June 22, 1999, Fort Worth Star-Telegram | The Honorable Kenneth Barr, Mayor, City of Fort Worth, City Hall, 1000 Throckmorton Street, Fort Worth, Texas 76102-6311 | Sept. 20, 1999 | 480596
Tarrant (FEMA Docket No. 7296) | City of Fort Worth | June 23, 1999, June 30, 1999, Fort Worth Star-Telegram | The Honorable Kenneth Barr, Mayor, City of Fort Worth, City Hall, 1000 Throckmorton Street, Fort Worth, Texas 76102-6311 | May 20, 1999 | 480596
Collin (FEMA Docket No. 7296) | City of Frisco | June 11, 1999, June 18, 1999, Frisco Enterprise | The Honorable Kathy Seei, Mayor, City of Frisco, P.O. Box 1100, Frisco, Texas 75034 | May 21, 1999 | 480134
Dallas and Collin (FEMA Docket No. 7296) | City of Garland | June 24, 1999, July 1, 1999, Garland News | The Honorable Jim Stence, Mayor, City of Garland, 200 North Fifth Street, Garland, Texas 75040 | May 21, 1999 | 485471
Galveston (FEMA Docket No. 7296) | City of League City | June 18, 1999, June 25, 1999, Galveston Daily News | The Honorable A. Tommy Frankovich, Mayor, City of League City, City Hall, 300 West Walker, League City, Texas 77573 | May 19, 1999 | 485488
Williamson (FEMA Docket No. 7296) | City of Leander | July 7, 1999, July 14, 1999, Hill Country News | The Honorable Charles E. Eaton, Mayor, City of Leander, P.O. Box 319, Leander, Texas 78646 | Oct. 12, 1999 | 481282
Tarrant (FEMA Docket No. 7296) | Unincorporated Areas | June 11, 1999, June 18, 1999, Fort Worth Star-Telegram | The Honorable Tom Vandergriff, Tarrant County Judge, 100 East Weatherford Street, Fort Worth, Texas 76196-0601 | May 19, 1999 | 480582
Washington: Spokane (FEMA Docket No. 7296) | Unincorporated Areas | June 8, 1999, June 15, 1999, Spokesman-Review | The Honorable Kate McCaslin, Chairperson, Spokane County, Board of Commissioners, 1116 West Broadway Avenue, Spokane, Washington 99260-0100 | Sept. 13, 1999 | 53017

(Catalog of Federal Domestic Assistance No. 83.100, “Flood Insurance”)

Dated: January 28, 2000.
Michael J. Armstrong,
Associate Director for Mitigation.

[FR Doc. 00-2799 Filed 2-7-00; 8:45 am]

BILLING CODE 6718-04-P